DEPARTMENT OF JUSTICE

Antitrust Division

Notice Pursuant to the National Cooperative Research and Production Act of 1993—National Armaments Consortium

Notice is hereby given that, on February 17, 2025, pursuant to section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances.

Specifically, Air Space Intelligence Federal Inc., Washington, DC; AISensation LLC, Caldwell, TX; Amaero Advanced Materials & Manufacturing, Inc., McDonald, TN; American Flowform Products LLC., Billerica, MA; Ansys Government Initiatives, Exton, PA; Barber-Nichols LLC., Arvada, CO; Chromatic 3D Materials Inc., Golden Valley, MN; Cornerstone Global LLC., Apex, NC; Deep Analytics LLC., Montpelier, VT; Deterrence Defense, Inc., Denver, CO; EverGlade Consulting, LLC. Houston, TX; Fortem Technologies, Inc., Pleasant Grove, UT; Grid Aero, Inc., San Leandro, CA; Halliburton Energy Services, Alvarado, TX; Hidden Level, Syracuse, NY; Hornady Manufacturing, Grand Island, NE; J12 Solutions LLC., Huntsville, AL; LIFT, Detroit, MI; Materials Engineering And Technical Support Services Corp., Westerville, OH; Nammo Pocal, Inc., Scranton, PA; Northrop Grumman Systems Corporation/Mission Systems, McCellan, CA; Snoe Inc., Machining And Welding, Mountain View, CA; Strategic Enterprise Solutions Corp., Warner Robins, GA; Taylor Defense Products LLC., Louisville, MS; TB2 Aerospace, Breckenridge, CO; Tri-Power Design LLC., Denville, NJ; Velo3D, Inc., Fremont, CA; and ZeroMark, Inc., Watchung, NJ, have been added as parties to this venture.

No other changes have been made in either the membership or planned activity of the group research project. Membership in this group research project remains open, and NAC intends to file additional written notifications disclosing all changes in membership.

On May 2, 2000, NAC filed its original notification pursuant to section 6(a) of the Act. The Department of Justice published a notice in the Federal Register pursuant to section 6(b) of the Act on June 30, 2000 (65 FR 40693).

The last notification was filed with the Department on November 15, 2024. A notice was published in the Federal Register pursuant to section 6(b) of the Act on February 28, 2025 (90 FR 10951).

Suzanne Morris,
Deputy Director Civil Enforcement Operations, Antitrust Division.

[FR Doc. 2025-06796 Filed 4-18-25; 8:45 am]

BILLING CODE P